DEPARTMENT OF COMMERCE

Foreign-Trade Zones Board

[S-5-2014]

Foreign-Trade Zone 221—Mesa, Arizona, Application for Subzone, Apple, Inc., Mesa, Arizona

An application has been submitted to the Foreign-Trade Zones (FTZ) Board by the City of Mesa, grantee of FTZ 221, requesting subzone status for the facility of Apple, Inc. (Apple), located in Mesa, Arizona. The application was submitted pursuant to the provisions of the Foreign-Trade Zones Act, as amended (19 U.S.C. 81a-81u), and the regulations of the FTZ Board (15 CFR part 400). It was formally docketed on January 14, 2014.

The proposed subzone (83.17 acres) is located at 3740 S. Signal Butte Rd, Mesa, Arizona. A notification of proposed production activity has been submitted and will be published separately for public comment. The proposed subzone would be subject to the existing activation limit of FTZ 221.

In accordance with the FTZ Board's regulations, Christopher Kemp of the FTZ Staff is designated examiner to review the application and make recommendations to the Executive Secretary.

Public comment is invited from interested parties. Submissions shall be addressed to the FTZ Board's Executive Secretary at the address below. The closing period for their receipt is March 4, 2014. Rebuttal comments in response to material submitted during the foregoing period may be submitted during the subsequent 15-day period to March 19, 2014.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

FOR FURTHER INFORMATION CONTACT: Christopher Kemp at Christopher.Kemp@trade.gov or (202) 482-0862.

Dated: January 14, 2014.
Andrew McGilvray,
Executive Secretary.

[FR Doc. 2014-01296 Filed 1-22-14; 8:45 am]

BILLING CODE 3510-DS-P